DEPARTMENT OF ENERGY

Federal Energy Regulatory Commission

[Docket No. RP03-266-000]

Clear Creek Storage Company, L.L.C.; Notice of Tariff Filing

March 4, 2003.

Take notice that on February 28, 2003, pursuant to 18 CFR 154.7, and in response to the Commission's October 31, 2002, Order on Remand, Clear Creek Storage Company, L.L.C., (Clear Creek) tendered for filing and acceptance to be effective March 31, 2003, proposed revised tariff sheets to Original Volume No. 1 of its FERC Gas Tariff as listed below:

First Revised Sheet No. 47

Second Revised Sheet Nos. 44 and 46A

Third Revised Sheet Nos. 4A and 38

Fourth Revised Sheet No. 41

Clear Creek states that through this filing it will revise its tariff by (1) removing the term matching cap for the right of first refusal and (2) reinstating the price cap for short-term releases. Clear Creek states further that a copy of this filing has been served upon its customers and the Public Service Commission of Wyoming.

Any person desiring to be heard or to protest said filing should file a motion to intervene or a protest with the Federal Energy Regulatory Commission, 888 First Street, NE., Washington, DC 20426, in accordance with Sections 385.314 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: March 12, 2003.

Magalie R. Salas,
Secretary.

[FR Doc. 03-5662 Filed 3-10-03; 8:45 am]

BILLING CODE 6717-01-P